DEPARTMENT OF COMMERCE

National Institute of Standards and Technology

Proposed Information Collection; Comment Request; SURF Fellow Housing Application

AGENCY: National Institute of Standards and Technology (NIST), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 9, 2019.

ADDRESSES: Direct all written comments to Jennifer Jessup, Departmental Paperwork Clearance Officer, Department of Commerce, Room 6616, 1401 Constitution Avenue NW, Washington, DC 20230 (or via the internet at PRAcomments@doc.gov).

FOR FURTHER INFORMATION CONTACT: Requests for additional information or copies of the information collection instrument and instructions should be directed to Dr. Brandi Toliver, NIST, 100 Bureau Drive, Stop 1090, Gaithersburg, MD 20899-1090, tel. (301) 972-2371, or brandi.toliver@nist.gov.

SUPPLEMENTARY INFORMATION:

I. Abstract

The purpose of this collection is to gather information requested on behalf of the NIST Summer Undergraduate Research Fellowship (SURF) Program for both Gaithersburg and Boulder locations. Students participating in the program receive a fellowship which includes lodging arranged by the agency. To coordinate the lodging, information is submitted by accepted students who require lodging during the program dates. The student information is utilized for roommate matching based on gender and common interests. The information includes: Identification of accepted laboratory, housing requirement (yes or no), first name, last name, dates requesting housing, gender, roommate identification, name of academic institution of enrollment, preferences (night owl, early bird, neatness, smoking), and special requests.

II. Method of Collection

The information will be collected electronically. Accepted students will receive a link to the Housing Application administered on Google Documents (a NIST approved platform). The application must be completed by a required deadline. The provided link will be inactive after the deadline.

III. Data

OMB Control Number: New collection. 0693-XXXX.

Form Number(s): None.

Type of Review: Regular submission (new information collection).

Affected Public: Individuals or households.

Estimated Number of Respondents: 220.

Estimated Time per Response: 30 minutes.

Estimated Total Annual Burden Hours: 110 hours.

Estimated Total Annual Cost to Public: $0.

IV. Request for Comments

NIST invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department Lead PRA Officer, Office of the Chief Information Officer, Commerce Department.

[FR Doc. 2019-01554 Filed 2-7-19; 8:45 am]

BILLING CODE 3510-13-P